DEPARTMENT OF COMMERCE

National Oceanic and Atmospheric Administration

[RTID 0648-XB972]

Marine Fisheries Advisory Committee; Charter Renewal

AGENCY: National Marine Fisheries Service (NMFS), National Oceanic and Atmospheric Administration (NOAA), Commerce.

ACTION: Notice of renewed charter.

SUMMARY: Notice is hereby given of the 2-year renewed charter for the Marine Fisheries Advisory Committee (MAFAC), signed on April 12, 2022.

FOR FURTHER INFORMATION CONTACT: Heidi Lovett, Assistant Federal Program Officer, MAFAC, 301-427-8034; email heidi.lovett@noaa.gov.

SUPPLEMENTARY INFORMATION: As required by section 10(a)(2) of the Federal Advisory Committee Act, 5 U.S.C. App. (1982), and after consultation with the General Services Administration, the Secretary of Commerce has determined that the renewal of the charter for MAFAC is in the public interest. MAFAC was established by the Secretary of Commerce (Secretary) on February 17, 1971, to advise the Secretary on all living marine resource matters that are the responsibility of the Department of Commerce. This Committee advises and reviews the adequacy of living marine resources policies and programs to meet the needs of commercial and recreational fisheries, aquaculture, seafood trade, environmental, consumer, academic, tribal, governmental, and other national interests. The Committee's charter must be renewed every 2 years from the date of the last renewal.

The Committee will function solely as an advisory body and in compliance with provisions of the Federal Advisory Committee Act. Copies of the Committee's revised Charter have been filed with the appropriate committees of the Congress and with the Library of Congress. The charter can be accessed online at https://www.fisheries.noaa.gov/national/partners/marine-fisheries-advisory-committee-charter.

Dated: April 15, 2022.
Jennifer L. Lukens,
Federal Program Officer, Marine Fisheries Advisory Committee, National Marine Fisheries Service.

[FR Doc. 2022-08503 Filed 4-20-22; 8:45 am]

BILLING CODE 3510-22-P